DEPARTMENT OF THE INTERIOR

Bureau of Land Management

[CO-800-1430-ES; COC-71969]

Notice of Realty Action: Recreation and Public Purposes (R&PP) Act Classification; Colorado

AGENCY: Bureau of Land Management, Interior.

ACTION: Notice.

SUMMARY: The Bureau of Land Management (BLM) has examined and found suitable for classification for lease and subsequent conveyance under the provision of the Recreation and Public Purposes (R&PP) Act, as amended, 43 U.S.C. 869 et seq., and under sec. 7 of the Taylor Grazing Act, 43 U.S.C. 315f, and E.O. 6910, eighty acres of land in Archuleta County, Colorado. Archuleta County proposes to use the land for public recreation purposes.

DATES: Interested parties may submit comments regarding the proposed lease/conveyance or classification of the lands until January 14, 2008.

ADDRESSES: Mail written comments to Pagosa Springs Field Manager, Bureau of Land Management, P.O. Box 310, Pagosa Springs, Colorado 81147.

FOR FURTHER INFORMATION CONTACT: Charlie Higby, BLM Realty Specialist, 15 Burnett Court, Durango, Colorado 81301 or phone (970) 385-1374.

SUPPLEMENTARY INFORMATION: The following described public lands in Archuleta County, Colorado have been examined and found suitable for classification for lease and subsequent conveyance under the provisions of the Recreation and Public Purposes (R&PP) Act, as amended, 43 U.S.C. 869 et seq., and under Sec. 7 of the Taylor Grazing Act, 43 U.S.C. 315f, and E.O. 6910, and are hereby classified accordingly. Archuleta County proposes to use the land for: Softball fields, soccer fields, skate-park; outdoor amphitheater; trail system; tennis courts; and associated restroom/concession/storage buildings. The land is approximately three miles northwest of Pagosa Springs, Colorado.

New Mexico Principal Meridian, Colorado

T. 35 N., R. 2 W.,

Sec. 4, SW¼NE¼, and NE¼SE¼.

The area described contains approximately 80 acres.

The land is not required for any Federal purpose. Lease/conveyance of the land is consistent with the BLM San Juan/San Miguel Resource Management Plan dated September 1985, and would be in the public interest. The lease/conveyance of the lands, when issued, will be subject to the provisions of the R&PP Act and applicable regulations of the Secretary of the Interior and will contain the following terms, conditions, and reservations to the United States:

1. A right-of-way thereon for ditches and canals constructed by the authority of the United States pursuant to the Act of August 30, 1890 (43 U.S.C. 945).

2. All mineral deposits in the lands shall be reserved to the United States together with the right to prospect for, mine and remove such deposits from the same under applicable law and such regulations as the Secretary of the Interior may prescribe, including all necessary access and exit rights.

3. All valid existing rights

4. A right-of-way, across the above described lands, for access road purposes granted to Williams Family Trust, its successors or assigns, by right-of-way COC-56189, pursuant to the Act of October 21, 1976 (90 Stat. 2776; 43 U.S.C. 1761).

Upon publication of this notice in the Federal Register the lands will be segregated from all other forms of appropriation under the public land laws, including the general mining laws, except for lease/conveyance under the Recreation and Public Purposes Act, leasing under the mineral leasing laws, and disposals under the mineral material disposal laws.

Classification Comments: Interested persons may submit comments involving the suitability of the land for development for public recreation facilities. Comments on the classification are restricted to whether the land is physically suited for the proposal, whether the use will maximize the future use or uses of the land, whether the use is consistent with local planning and zoning, or if the use is consistent with state and federal programs.

Application Comments: Interested persons may submit comments, including notification of any encumbrances or other claim relating to the parcel, and regarding the specific use proposed in the application and plan of development, whether the BLM followed proper administrative procedures in reaching the decision to lease/convey under the R&PP Act, or any other factors not directly related to the suitability of the land for public recreation facilities. Any adverse comments will be reviewed by the BLM Colorado State Director, who may sustain, vacate, or modify this realty action in whole or in part. In the absence of any adverse comments, the classification will become effective on January 29, 2008.

Only written comments submitted by postal service or overnight mail to the Field Manager, BLM Pagosa Springs Field Office, will be considered properly filed. Electronic mail, facsimile or telephone comments will not be considered properly filed. Documents related to this action are on file at the BLM Pagosa Springs Field Office at the address above and may be reviewed by the public at their request. Before including your address, phone number, e-mail address, or other personal identifying information in your comment, be advised that your entire comment—including your personal identifying information—may be made publicly available at any time. While you can ask us in your comment to withhold from public review your personal identifying information, we cannot guarantee that we will be able to do so. If you wish to have your name or address withheld from public disclosure under the Freedom of Information Act, you must state it prominently at the beginning of your comments. Any determination by the BLM to release or withhold the names and/or addresses of those who comment will be made on a case-by-case basis. Such requests will be honored to the extent allowed by law. BLM will make available for public review, in their entirety, all comments submitted by businesses or organizations, including comments by individuals in their capacity as an official or representative of an organization or business.

Authority: 43 Code of Federal Regulations (CFR) 2741.5.

Dated: November 19, 2007.
Kevin Khung,
Pagosa Field Office Manager.

[FR Doc. E7-23228 Filed 11-29-07; 8:45 am]

BILLING CODE 4310-JB-P